DEPARTMENT OF JUSTICE

Antitrust Division

Notice Pursuant to the National Cooperative Research and Production Act of 1993—Robotics Technology Consortium, Inc.

Notice is hereby given that, on March 25, 2014, pursuant to Section 6(a) of the National Cooperative Research and Production Act of 1993, 15 U.S.C. 4301 et seq. (“the Act”), Robotics Technology Consortium, Inc. (“RTC”) has filed written notifications simultaneously with the Attorney General and the Federal Trade Commission disclosing changes in its membership. The notifications were filed for the purpose of extending the Act's provisions limiting the recovery of antitrust plaintiffs to actual damages under specified circumstances. Specifically, the following members have been added as parties to this venture: Alliant Techsystems (ATK), Tucson, AZ; Dragonfly Pictures, Inc., Essington, PA; Insitu, Inc., Bingen, WA; L-3 Communications, Communication Systems-West, Salt Lake City, UT; OpenSource Robotics Foundation, Inc., Mountain View, CA; Sikorsky Aircraft Corporation, Stratford, CT; and Telefactor Robotics, LLC, West Conshohocken, PA.

Also, the following members have withdrawn from this venture: ABB, Inc., Cary, NC; Action Engineering, LLC, Lakewood, CA; Advanced Scientific Concepts, Santa Barbara, CA; Applied Research Associates, Inc., Albuquerque, NM; Barrett Technology, Inc., Cambridge, MA; Battelle, Columbus, OH; Battelle Energy Alliance, Idaho Falls, ID; Boston Dynamics, Inc., Waltham, MA; Broadcast Microwave Service, Poway, CA; Caterpillar Inc., Peoria, IL; Cedar Creek Defense, Cartersville, VA; Chatten Associates, Inc., West Conshohocken, PA; Defined Business Solutions, Washington, DC; DeVivo AST, Inc., Huntsville, AL; Dezudio, LLC, Pittsburgh, PA; DRS Sustainment Systems, Inc., St. Louis, MO; Eurisko Institute LLC, Monticello, FL; General Dynamics Robotics Systems, Westminster, MD; Integrated Solutions for Systems Inc., Huntsville, AL; Intelligent Automation, Inc., Rockville, MD; Jacobs Technology, Tullahoma, TN; Jochem Consulting, Gibsona, PA; Kairos Autonomi, Sandy, UT; KT-Tech, Incorporated, Bowie, MD; Kicker Studio, San Francisco, CA; KJVision LLC, Philadelphia, PA; L-3 Communications CyTerra, Woburn, MA; Nomadio, Inc., Philadelphia, PA; Northport Systems, LLC, Nashua, NH; NovaSol, Honolulu, HI; NuVision Engineering, Inc., Pittsburgh, PA; Oakland University, Rochester, MI; OpenJAUS, LLC, Allison Park, PA; Polaris Sensor Technologies, Inc., Huntsville, AL; Quantum Signal, LLC, Ann Arbor, MI; Rehg Enterprises, Atlanta, GA; San Diego State University, San Diego, CA; SAIC, San Diego, CA; SAVIT Corporation, Rockaway, NJ; Scientific Applications & Research Association, Cypress, CA; SkEyes Unlimited Corp., Monterey, CA; Stealth Composites, LLC, Salt Lake City, UT; Teledyne Scientific & Imaging, LLC, Durham, NC; Textron Systems Corp., Hunt Valley, MD; Think-a-Move, Ltd, Beachwood, OH; TRACLabs, Inc., Houston, TX; Ultra Electronics Measurement Systems Inc., Wallingford, CT; University of Detroit Mercy, Detroit, MI; The University of North Carolina at Chapel Hill, Chapel Hill, NC; UrsaNav, Inc., Chesapeake, VA; Velodyne Lidar, Inc., Morgan Hill, CA; VELOXITI, Inc., Alpharetta, VA; Vision Robotics Federal Systems, LLC, San Diego, CA; West Virginia High Tech, Fairmont, VA; and WINTEC, Incorporated, Walton Beach, FL.

No other changes have been made in either the membership or planned activity of the group research project. Membership in this group research project remains open, and RTC intends to file additional written notifications disclosing all changes in membership.

On October 15, 2009, RTC filed its original notification pursuant to Section 6(a) of the Act. The Department of Justice published a notice in the Federal Register pursuant to Section 6(b) of the Act on November 30, 2009 (74 FR 62599).

The last notification was filed with the Department on February 5, 2013. A notice was published in the Federal Register pursuant to Section 6(b) of the Act on March 1, 2013 (78 FR 13896).

Patricia A. Brink,
Director of Civil Enforcement, Antitrust Division.

[FR Doc. 2014-09786 Filed 4-29-14; 8:45 am]

BILLING CODE P